DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed grant information collection activity or to obtain a copy of the data collection plan and draft instruments, call the HRSA Reports Clearance Officer at (301) 443-1129.

Comments are invited on: (a) Whether the proposed collection of information is necessary for the proper performance of grantee functions including whether the information will have practical utility; (b) the accuracy of the agency's estimate of the burden of the proposed collection of information; (c) ways to enhance the quality, utility and clarity of the information to be collected; and (d) ways to minimize the burden of the collection of information on respondents, including through the use of automated collection techniques or other forms of information technology.

Proposed Project: Ryan White Comprehensive AIDS Resources Emergency (CARE) Act Title I Minority AIDS Initiative (MAI) Annual Plan and Title I MAI Annual Report: New

The CARE Act (codified under Title XXVI of the Public Health Service Act) was first enacted by Congress in 1990, and reauthorized in 1996 and 2000. It addresses the unmet health needs of persons living with HIV by funding primary health care and support services that enhance access to and retention in care. The CARE Act funded services reach over 500,000 individuals; after Medicaid and Medicare, it is the largest single source of Federal funding for HIV/AIDS care for low-income, uninsured, and underinsured Americans. Title I under the CARE Act provides emergency assistance to eligible metropolitan areas (EMAs) the most severely affected by the HIV epidemic, for the purpose of providing a continuum of high quality, community-based care for low-income individuals and families with HIV disease.

In response to a Presidential declaration in 1998 that HIV was a severe and ongoing health crisis among minority communities, the Congress directed a portion of fiscal year (FY) 1999 CARE Act funds to a new Minority AIDS Initiative (MAI) to address the disproportionate impact of HIV on African-American and Hispanic communities. Since then, the focus has been broadened to include all racial and ethnic minority communities. HRSA disburses the Title I component of MAI funds among the 51 EMAs based on a congressionally mandated formula.

The Congress has directed that Title I MAI funds be used through established local planning council processes to improve HIV-related health outcomes for communities of color and reduce existing health disparities. Improved health outcomes include reducing HIV transmission, morbidity and opportunistic disease, and improving life expectancy.

The Title I MAI Annual Plan (Plan) and Title I MAI Annual Report (Report) are designed to collect information from grantees on MAI-funded services, the number and demographics of clients served, and client-level outcomes. This information is needed to monitor and assess: (a) Increases and changes in the type and amount of HIV/AIDS health care and related services being provided to each disproportionately impacted community of color; (b) increases in the number of persons receiving HIV/AIDS services within each racial and ethnic community; and (c) the impact of the Title I MAI funded services in terms of client-level and service-level health outcomes. This information also will be used to plan new technical assistance and capacity development activities, and inform the HIV/AIDS Bureau/HRSA policies and program management.

The Plan and Report will be transmitted by mail and electronically to all Title I grantees and made available through the HRSA web site. Two alternatives will be provided to grantees for submitting Plans and Reports electronically: a designated mailbox for e-mailed electronic reports and a web-based reporting option. The Plan and Report forms will be linked to reduce the reporting burden, and are designed to include check box responses, fields for reporting budget, expenditure and client data, and open-ended text boxes for describing client or service-level outcomes. The forms will automatically generate totals and percentages and include other automated fields to minimize the time required to complete the Plan and Report, and include built-in checks to minimize possible reporting errors.

The forms will require grantees to collect client, services, and outcomes information from MAI-funded service providers (sub-grantees), which grantees have already been collecting from MAI-funded providers since FY 2000. It will take grantees no longer than 15 minutes to complete a single form (response) for each MAI-funded service provided to each minority racial or ethnic minority community.

In FY 2002, grantees would have completed an average of nine forms/responses to prepare their Title I Annual MAI Plans and eight forms/responses to prepare their Title I Annual MAI Reports. For FY 2003, the average number declined to eight and seven forms/responses respectively. Thirty-eight of the 51 grantees (75%) would have completed 10 or fewer Plans and 10 or fewer Reports during both fiscal years.

Therefore the approximate response burden for Title I grantees in completing both the Annual MAI Plan and the Annual MAI Report is estimated as:

Estimated number of grantee respondents | Estiamted responses per grantee | Total number of responses | Hours per response | Estimated total hour burden
51 | 15 | 765 | .25 | 191.25

Send comments to Susan G. Queen, PhD, HRSA Reports Clearance Officer, Room 14-33, Parklawn Building, 5600 Fishers Lane, Rockville, MD 20857. Written comments should be received within 60 day of this notice.

Dated: November 28, 2003.
Jon L. Nelson,
Associate Administrator for Management and Program Support.

[FR Doc. 03-30303 Filed 12-5-03; 8:45 am]

BILLING CODE 4165-15-P